DEPARTMENT OF LABOR

Employment and Training Administration

[TA-W-74,411]

Avaya Global Services, AOS Service Delivery, Worldwide Services Group, Including Workers Whose Unemployment Insurance (UI) Wages Are Reported Through Diamondware, Ltd and Nortel Networks, Inc., Including Workers Working at Virtual Offices in Arizona, California, Florida, Georgia, Maine, New Hampshire, New York, North Carolina, Texas and Wisconsin Reporting to the Network Operations Center (NOC), Research Triangle Park, NC; Amended Certification Regarding Eligibility To Apply for Worker Adjustment Assistance

In accordance with Section 223 of the Trade Act of 1974, as amended (“Act”), 19 U.S.C. 2273, the Department of Labor issued a Certification of Eligibility to Apply for Worker Adjustment Assistance on October 20, 2010, applicable to workers of Avaya Global Services, AOS Service Delivery, including workers whose wages were reported under DiamondWare, Ltd., including workers working at virtual offices in Arizona, California, Florida, Georgia, Maine, New Hampshire, New York, North Carolina, Texas, and Wisconsin reporting to the Network Operations Center (NOC), Research Triangle Park, North Carolina. The notice was published in the Federal Register on November 8, 2010 (75 FR 68622).

At the request of the State Agency, the Department reviewed the certification for workers of the subject firm. The workers are related to the supply of service desk/help desk services providing the first level of technical support to Avaya customers and make changes and updates to the systems and tools provided/used by customers in support of their networks.

New information shows that some workers separated from employment at Avaya Global Services, AOS Service Delivery had their wages reported through a separate unemployment insurance (UI) tax account under the name Nortel Networks, Inc. and Avaya Global Services, AOS Service Delivery.

Based on these findings, the Department is amending this certification to include workers whose unemployment (UI) wages are reported through Nortel Networks, Inc. and Avaya Global Services, AOS Service Delivery.

The amended notice applicable to TA-W-74,411 is hereby issued as follows:

“All workers of Avaya Global Services, AOS Service Delivery, including workers whose unemployment insurance (UI) wages were reported through DiamondWare, Ltd. and Nortel Networks, Inc., and workers working at virtual offices in Arizona, California, Florida, Georgia, Maine, New Hampshire, New York, North Carolina, Texas, and Wisconsin reporting to the Network Operations Center (NOC), Research Triangle Park, North Carolina (TA-W-74,411); Avaya Global Services, AOS Service Delivery, including workers whose wages were reported under DiamondWare, Ltd. and Nortel Networks, Inc., Richardson, Texas (TA-W-74,411A); Avaya Global Services, AOS Service Delivery, including workers whose wages were reported under DiamondWare, Ltd. and Nortel Networks, Inc., Billerica, Massachusetts (TA-W-74,411B); Avaya Global Services, AOS Service Delivery, including workers whose wages were reported under DiamondWare, Ltd. And Nortel Networks, Inc., Santa Clara, California (TA-W-74,411C), who became totally or partially separated from employment on or after July 8, 2009, through October 20, 2012, and all workers in the group threatened with total or partial separation from employment on date of certification through two years from the date of certification, are eligible to apply for adjustment assistance under Chapter 2 of Title II of the Trade Act of 1974, as amended.”

Signed at Washington, DC, January 11, 2011.
Elliott S. Kushner,
Certifying Officer, Division of Trade Adjustment Assistance.

[FR Doc. 2011-1613 Filed 1-25-11; 8:45 am]

BILLING CODE 4510-FN-P